DEPARTMENT OF COMMERCE

International Trade Administration

[C-489-817]

Certain Oil Country Tubular Goods From the Republic of Turkey: Rescission of Countervailing Duty Administrative Review: 2019

AGENCY: Enforcement and Compliance, International Trade Administration, Department of Commerce.

SUMMARY: The Department of Commerce (Commerce) is rescinding the administrative review of the countervailing duty (CVD) order on certain oil country tubular goods (OCTG) from the Republic of Turkey (Turkey) for the period of review January 1, 2019, through December 31, 2019, based on the timely withdrawal of the request for review.

DATES: Applicable February 22, 2021.

FOR FURTHER INFORMATION CONTACT: Dusten Hom, AD/CVD Operations, Office 1, Enforcement and Compliance, International Trade Administration, U.S. Department of Commerce, 1401 Constitution Avenue NW, Washington, DC 20230; telephone: (202) 482-5075.

SUPPLMENTARY INFORMATION:

Background

On September 1, 2020, Commerce published a notice of opportunity to request an administrative review of the CVD order on OCTG from Turkey for the period January 1, 2019, through December 31, 2019.¹ In accordance with section 751(a) of the Tariff Act of 1930, as amended (the Act), and 19 CFR 351.213(b), Commerce received a timely-filed request for an administrative review from the United States Steel Corporation, Maverick Tube Corporation, Tenaris Bay City, Inc, and IPSCO Tubulars Inc. (collectively, the Domestic Interested Parties) for the following exporters/producers of subject merchandise: APL Apollo Tubes Ltd.; BAUER Casings Makina San. Ve Tic. Ltd.; Binayak Hi Tech Engineering Ltd.; Borusan Mannesmann Boru Sanayi ve Ticaret A.S.; Borusan Mannesmann Boru Yatirim Holding; Borusan Istikbal Ticaret; Goktas Yassi Hadde Mamulleri San. ve Tic. A.S.; ISMT Limited; Noksel Celik Boru Sanayi A.S.; and TPAO (Turkiye Petrolleri Anonim Ortakligi).²

¹ See Antidumping or Countervailing Duty Order, Finding, or Suspended Investigation; Opportunity To Request Administrative Review, 85 FR 54349 (September 1, 2020).

² See Domestic Interested Parties' Letter, “Oil Country Tubular Goods from Turkey: Request for Administrative Review of Countervailing Duty Order,” dated September 30, 2020.

On October 30, 2020, pursuant to this request and in accordance with 19 CFR 351.221(c)(1)(i), Commerce published a notice initiating an administrative review of the CVD order on OCTG from Turkey with respect to the ten requested companies.³ On January 27, 2021, the Domestic Interested Parties withdrew their request for an administrative review of all companies for which this administrative review was initiated.⁴

³ See Initiation of Antidumping and Countervailing Duty Administrative Reviews, 85 FR 68840 (October 30, 2020).

⁴ See Domestic Interested Parties' Letter, “Oil Country Tubular Goods from Turkey: Withdrawal of Request for Review of Countervailing Duty Order,” dated January 27, 2021.

Rescission of Review

Pursuant to 19 CFR 351.213(d)(1), Commerce will rescind an administrative review, in whole or in part, if the party or parties that requested a review withdraws the request within 90 days of the publication date of the notice of initiation of the requested review. As noted above, the Domestic Interested Parties withdrew their request for review of all companies within 90 days of the publication date of the notice of initiation. No other parties requested an administrative review of the CVD order. Therefore, in accordance with 19 CFR 351.213(d)(1), we are rescinding this administrative review in its entirety.

Assessment

Commerce will instruct U.S. Customs and Border Protection (CBP) to assess countervailing duties on all appropriate entries of OCTG from Turkey. Countervailing duties shall be assessed at rates equal to the cash deposit of estimated countervailing duties required at the time of entry, or withdrawal from warehouse, for consumption in accordance with 19 CFR 351.212(c)(1)(i). Commerce intends to issue appropriate assessment instructions to CBP no earlier than 35 days after the date of publication of this notice in the Federal Register.

Notification Regarding Administrative Protective Order

This notice serves as the only reminder to all parties subject to administrative protective order (APO) of their responsibility concerning the disposition of proprietary information disclosed under APO in accordance with 19 CFR 351.305(a)(3). Timely written notification of the return/destruction of APO materials or conversion to judicial protective order is hereby requested. Failure to comply with the regulations and terms of an APO is a violation which is subject to sanction.

Notification to Interested Parties

This notice is issued and published in accordance with sections 751(a)(1) and 777(i)(1) of the Act, and 19 CFR 351.213(d)(4).

Dated: February 16, 2021.
James Maeder,
Deputy Assistant Secretary for Antidumping and Countervailing Duty Operations.

[FR Doc. 2021-03490 Filed 2-19-21; 8:45 am]

BILLING CODE 3510-DS-P